DEPARTMENT OF ENERGY

Federal Energy Regulatory Commission

[Docket No. RP01-27-000]

Southern California Gas Company v. El Paso Natural Gas Company; Notice of Complaint

October 6, 2000.

Take notice that on October 4, 2000 pursuant to Rule 206 of the Federal Energy Regulatory Commission's (Commission's) Rules of Practice and Procedure (18 CFR 385.206), Southern California Gas Company (SoCalGas) filed a Section 5 Complaint against El Paso Natural Gas Company (El Paso).

Specifically, SoCalGas requests the Commission to issue an order: (1) Finding that the SoCalGas/Topock delivery point is fully subscribed on a firm primary basis (without determining which shippers hold firm primary capacity), and was fully subscribed when capacity was awarded commencing January 1, 2000 (Open Season) and subsequently; (2) directing El Paso to cease and desist violating express orders and regulations by continuing to sell firm primary capacity at the SoCalGas/Topock delivery point since no such capacity is available and (3) directing El Paso to schedule capacity acquired during the Open Season and subsequently into the SoCalGas/Topock delivery point on a secondary basis only.

Any person desiring to be heard or to protest this filing should file a motion to intervene or protest with the Federal Energy Regulatory Commission, 888 First Street, N.E., Washington, D.C. 20426, in accordance with Rules 211 and 214 of the Commission's Rules of Practice and Procedure (18 CFR 385.211 and 385.214). All such motions or protests must be filed on or before October 25, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before October 25, 2000.

Linwood A. Watson, Jr.,
Acting Secretary.

[FR Doc. 00-26285 Filed 10-12-00; 8:45 am]

BILLING CODE 6717-01-M